ENVIRONMENTAL PROTECTION AGENCY

[FRL-9902-92-OECA]

Applicability Determination Index (ADI) Database System Recent Posting: Applicability Determinations, Alternative Monitoring Decisions, and Regulatory Interpretations Pertaining to Standards of Performance for New Stationary Sources, Etc.

AGENCY: Environmental Protection Agency (EPA).

ACTION: Notice of Availability.

SUMMARY: This notice announces applicability determinations, alternative monitoring decisions, and regulatory interpretations that EPA has made under the New Source Performance Standards (NSPS); the National Emission Standards for Hazardous Air Pollutants (NESHAP); and/or the Stratospheric Ozone Protection Program.

FOR FURTHER INFORMATION CONTACT: An electronic copy of each complete document posted on the Applicability Determination Index (ADI) database system is available on the Internet through the Office of Enforcement and Compliance Assurance (OECA) Web site at: http://www.epa.gov/compliance/monitoring/programs/caa/adi.html. The letters and memoranda on the ADI may be located by control number, date, author, subpart, or subject search. For questions about the ADI or this notice, contact Maria Malave at EPA by phone at: (202) 564-7027, or by email at: malave.maria@epa.gov. For technical questions about individual applicability determinations or monitoring decisions, refer to the contact person identified in the individual documents, or in the absence of a contact person, refer to the author of the document.

SUPPLEMENTARY INFORMATION:

Background

The General Provisions of the NSPS in 40 Code of Federal Regulations (CFR) part 60 and the General Provisions of the NESHAP in 40 CFR part 61 provide that a source owner or operator may request a determination of whether certain intended actions constitute the commencement of construction, reconstruction, or modification. EPA's written responses to these inquiries are commonly referred to as applicability determinations. See 40 CFR §§ 60.5 and 61.06. Although the NESHAP part 63 regulations [which include Maximum Achievable Control Technology (MACT) standards] and § 111(d) of the Clean Air Act (CAA) contain no specific regulatory provision providing that sources may request applicability determinations, EPA also responds to written inquiries regarding applicability for the part 63 and § 111(d) programs. The NSPS and NESHAP also allow sources to seek permission to use monitoring or recordkeeping that is different from the promulgated requirements. See 40 CFR 60.13(i), 61.14(g), 63.8(b)(1), 63.8(f), and 63.10(f). EPA's written responses to these inquiries are commonly referred to as alternative monitoring decisions. Furthermore, EPA responds to written inquiries about the broad range of NSPS and NESHAP regulatory requirements as they pertain to a whole source category. These inquiries may pertain, for example, to the type of sources to which the regulation applies, or to the testing, monitoring, recordkeeping, or reporting requirements contained in the regulation. EPA's written responses to these inquiries are commonly referred to as regulatory interpretations.

EPA currently compiles EPA-issued NSPS and NESHAP applicability determinations, alternative monitoring decisions, and regulatory interpretations, and posts them to the ADI. In addition, the ADI contains EPA-issued responses to requests pursuant to the stratospheric ozone regulations, contained in 40 CFR part 82. The ADI is an electronic index on the Internet with over one thousand EPA letters and memoranda pertaining to the applicability, monitoring, recordkeeping, and reporting requirements of the NSPS, NESHAP, and stratospheric ozone regulations. Users can search for letters and memoranda by date, office of issuance, subpart, citation, control number, or by string word searches.

Today's notice comprises a summary of 32 such documents added to the ADI on October 30, 2013. This notice lists the subject and header of each letter and memorandum, as well as a brief abstract of the letter or memorandum. Complete copies of these documents may be obtained from the ADI through the OECA Web site at: www.epa.gov/compliance/monitoring/programs/caa/adi.html.

Summary of Headers and Abstracts

The following table identifies the database control number for each document posted on the ADI database system on October 30, 2013; the applicable category; the section(s) and/or subpart(s) of 40 CFR part 60, 61, or 63 (as applicable) addressed in the document; and the title of the document, which provides a brief description of the subject matter.

We have also included an abstract of each document identified with its control number after the table. These abstracts are provided solely to alert the public to possible items of interest and are not intended as substitutes for the full text of the documents. This notice does not change the status of any document with respect to whether it is “of nationwide scope or effect” for purposes of CAA § 307(b)(1). For example, this notice does not convert an applicability determination for a particular source into a nationwide rule. Neither does it purport to make a previously non-binding document binding.

ADI Determinations Uploaded on October 30, 2013
Control No. | Categories | Subparts | Title
1100013 | NSPS | A, OOO, UUU | Request to Extend Required Initial Performance Test due to Force Majeure.
1100014 | NSPS | A, KKK, Kb | Applicability to Condensate Storage Tanks and a Backup Vapor Recovery Unit.
1100015 | MACT, NSPS | J, UUU | Alternative Monitoring Plan for Opacity Monitoring—Fluidized Catalytic Cracking Unit Wet Gas Scrubber.
1100016 | NSPS | J | Approval of Operating Parameters on an ExxonMobil Low Energy Jet Ejector Venturi (JEV) Wet Gas Scrubber for a Compliance Alternative.
1100019 | MACT, NSPS | J, UUU | Alternative Monitoring Plan for Low Energy Jet Ejector Venturi (JEV) Wet Gas Scrubber.
1100020 | NSPS | J | Alternative Monitoring Plan for Low Energy Jet Ejector Venturi (JEV) Wet Gas Scrubber.
1100021 | NSPS | Ja | Request for Exemption in lieu of an Alternative Monitoring Plan for Low Sulfur Bearing Fuel Gas Stream.
1100023 | NSPS | J | Alternative Monitoring Plan Request for a Wet Gas Scrubber on a Fluid Catalytic Cracking Unit.
1100024 | NSPS | J | Alternative Monitoring Plan Request for Hydrogen Sulfide Vent Stream Monitoring.
1100025 | NSPS | J | Request Exemption in lieu of an Alternative Monitoring Plan for Low Sulfur Vent Stream Combustion from a Catalytic Hydrodesulfurization Unit.
1100026 | NSPS | J | Request Exemption in lieu of an Alternative Monitoring Plan for Low Sulfur Vent Stream from a Catalytic Platinum Reformer Unit.
1200001 | NSPS | NNN, RRR | Alternative Monitoring Plan Request for Vent Stream Flow Monitoring for a Distillation Column and Associated Flare.
1200002 | NSPS | EEEE | Request for Clarification of Other Solid Waste Incinerators Exclusion For Prescription Drugs Returned through Voluntary Program.
1200003 | NSPS | J | Request for Exemption in lieu of an Alternative Monitoring Plan for Monitoring of Multiple Low Sulfur Vent Streams from a Coker Disulfide Separator and Reformer.
1200007 | NSPS | Db | Request for Use of Alternate Span Value for NOX CEMS on a Boiler.
1200008 | NSPS | J | Alternative Monitoring Plan Request for Monitoring a Wet Gas Scrubber on a Refinery Fluid Catalytic Cracking Unit.
1200010 | NSPS | NNN, RRR | Alternative Monitoring Plan and Test Waiver Request for Vent Stream Flow Monitoring.
1200011 | NSPS | J | Request Exemption in lieu of an Alternative Monitoring Plan for Monitoring Three Low Sulfur Vent Streams from Combustion a Catalytic Hydrodesulfurization Unit.
1200012 | NSPS | J | Request Exemption in lieu of an Alternative Monitoring Plan for Low Sulfur Vent Stream Combustion from a Cumene Depropanizer Unit.
1200013 | NSPS | J | Alternative Monitoring Plan Request for Wet Gas Scrubbers on a Refinery Fluid Catalytic Cracking Unit.
1200014 | NSPS | J | Request Exemption in lieu of an Alternative Monitoring Plan for Vent Stream Combustion from a Catalytic Reformer Unit in a Flare.
1200015 | NSPS | NNN, RRR | Alternative Monitoring Plan Request for the Use of Car Seals on Closed Bypass Valves.
1200022 | NSPS | J | Request for Clarification of Marine Vessel Loading Vapors as Fuel Gas.
1200025 | NSPS | J | Request for Use of Alternate Span Value for O2 CEMS.
1200028 | NSPS | EEEE, FFFF | Alternative Emission Control Request to use Operating Parameter Limits (OPLs) in Lieu of using a Wet Scrubber.
1200032 | MACT, NSPS | JJJJ, ZZZZ | Determination of Applicability for Stationary Spark Ignition Internal Combustion Engines.
A130001 | Asbestos | M | Determination of the Use of Foam to Meet the Adequately Wet Requirement.
A130002 | Asbestos | M | Removal of Buried Pipe Wrapped with Asbestos-Containing Material.
A130003 | Asbestos | M | Encapsulating Wall Board with Spray Foam.
M130001 | MACT | CC | Alternative Monitoring Plan Request for use of a Video Camera for Verification of Flare Pilot Light.
M130002 | MACT | FFFF, YY | Determination of Applicability of NESHAP to Propane Dehydrogenation Plant.
Z130001 | NESHAP | E | Determination of Applicability of NESHAP to an Integrated Biosolids Management System.

Abstracts

Abstract for [1100013]: C:\Documents and Settings\mmalave\Local Settings\Temp\wzc696\1100013.pdf.

Q: Will EPA consider as force majeure certain contract disputes between a company and its contractor over production testing and plant operation at a facility that prevented stack tests from being conducted before the compliance deadline under 40 CFR part 60, subparts OOO and UUU, at the Cadre Material Products crusher and calciner facility in Voca, Texas?

A: No. EPA disagreed that the events described in the request letter met the criteria of force majeure under 40 CFR 60.8(a), because the contract dispute was not beyond the company's ability to control. EPA disapproved the request for an eight week extension to conduct required performance testing and submit the necessary reports; however, EPA granted a one-week extension for adverse weather conditions that occurred and did meet force majeure criteria.

Abstract for [1100014]: C:\Documents and Settings\mmalave\Local Settings\Temp\wzc696\1100014.pdf.

Q1: Does 40 CFR part 60, subparts A and KKK apply to a backup vapor recovery unit (BU-VRU) compressor at the Marathon Petroleum (Marathon) Indian Basin Gas Plant (IBGP) near Carlsbad, New Mexico?

A1: Yes. EPA determined that the BU-VRU compressor unit is considered to be in VOC service. Even though the compressor is associated with pollution control equipment, the pollution control exemption of 40 CFR 60.14(e) of the General Provisions cannot apply because of a direct conflict with the applicability provisions of NSPS subpart KKK. The provisions of 40 CFR 60.630 supersede any exemptions in 40 CFR 60.14.

Q2: Does 40 CFR part 60, subparts A and Kb apply to two stabilized condensate storage tanks at the Marathon IBGP near Carlsbad, New Mexico?

A2: Yes. EPA determined that the two storage tanks are located after the point of custody transfer since these are located in the natural gas processing plant, which is upstream of the IBGP. Therefore, both tanks are subject to the requirements of NSPS subpart Kb because the custody transfer exemption of 40 CFR § 60.110b(d)(4) does not apply.

Abstract for [1100015]: C:\Documents and Settings\mmalave\Local Settings\Temp\wzc696\1100015.pdf.

Q: Does EPA approve ExxonMobil's Alternative Monitoring Plan (AMP) under 40 CFR 60.13(i)(3) and 63.8(4)(i) for monitoring a wet gas scrubber (WGS) on refinery Fluid Catalytic Cracking Unit (FCCU) No. 2, in lieu of a Continuous Opacity Monitoring System (COMS), to demonstrate compliance with the opacity limits under 40 CFR 60.102(a)(2) and parameter monitoring requirements of 40 CFR § 63.1564(b)(1) at ExxonMobil's Baytown, Texas refinery (ExxonMobil)?

A: Yes. EPA granted final approval of ExxonMobil's AMP based on its approval of the two scrubber operating parameter limits (OPLs) established under performance testing at representative operating conditions for the FCCU and each WGS. The establishment of the two OPLs and their approval by EPA were conditions in a prior approval. Previously, EPA had conditionally approved ExxonMobil's AMP request since moisture in the FCCU exhaust from the WGS interfered with the ability of the COMS to take accurate readings, due to excessive water at the point of measurement, and flow meters were not reliable for measuring WGS scrubber liquid recirculation rates. In the response letter, EPA also clarified that ongoing compliance demonstration for each approved OPL is to be based on a three hour rolling average period.

Abstract for [1100016]: C:\Documents and Settings\mmalave\Local Settings\Temp\wzc696\1100016.pdf.

Q: Does EPA approve ConocoPhillips' Alternative Monitoring Plan (AMP) under 40 CFR 60.13(i)(3) for monitoring a wet gas scrubber (WGS) on refinery Fluid Catalytic Cracking Unit (FCCU) No. 4, in lieu of a Continuous Opacity Monitoring System (COMS), to demonstrate compliance with the opacity limit under 40 CFR 60.102(a)(2) at ConocoPhillips' Ponca City, Oklahoma refinery?

A: Yes. EPA granted final approval of ConocoPhillips' AMP request established under performance testing at representative operating conditions for the FCCU and each WGS. The establishment of the two OPLs and their approval by EPA were conditions in a prior approval. Previously, EPA had conditionally approved ConocoPhillips' AMP request because moisture in the FCCU exhaust from the WGS interfered with the ability of the COMS to take accurate readings, due to excessive water at the point of measurement. As described in the response letter, EPA also required continued periodic testing to confirm OPLs for ongoing compliance demonstration beyond the termination of the existing Consent Decree.

Abstract for [1100019]: C:\Documents and Settings\mmalave\Local Settings\Temp\wzc696\1100019.pdf.

Q: Does EPA approve ConocoPhillips' Alternative Monitoring Plan (AMP) under 40 CFR 60.13(i)(3) for monitoring a wet gas scrubber (WGS) on refinery Fluid Catalytic Cracking Unit (FCCU) No. 5, in lieu of a Continuous Opacity Monitoring System (COMS), to demonstrate compliance with the opacity limit under 40 CFR 60.102(a)(2) at ConocoPhillips' Ponca City, Oklahoma refinery?

A: Yes. EPA granted final approval to ConocoPhillips' AMP request established under performance testing at representative operating conditions for the FCCU and each WGS. The establishment of the OPLs and their approval by EPA were conditions in a prior approval. Previously, EPA had conditionally approved ConocoPhillips' AMP request since moisture in the FCCU exhaust from the WGS interfered with the ability of the COMS to take accurate readings due to excessive water at the point of measurement. As described in the response letter, EPA also required continued periodic testing to confirm OPLs for ongoing compliance demonstration.

Abstract for [1100020]: C:\Documents and Settings\mmalave\Local Settings\Temp\wzc696\1100020.pdf.

Q: Will EPA approve Motiva's Alternative Monitoring Plan (AMP) under 40 CFR 60.13(i)(3) for monitoring wet gas scrubbers (WGS) on a refinery Fluid Catalytic Cracking Unit (FCCU), in lieu of a Continuous Opacity Monitoring System (COMS), to demonstrate compliance with the opacity limit under 40 CFR 60.102(a)(2) at Motiva's Convent, Louisiana refinery?

A: Yes. EPA conditionally approves Motiva's AMP since moisture in the FCCU exhaust from the WGS interfered with the ability of the COMS to take accurate readings due to excessive water at the point of measurement. The conditions for approval require that Motiva establish three Operating Parameter Limits (OPLs) under performance testing at representative operating conditions for the FCCU and each WGS, whereby worst-case emissions are anticipated. EPA identified the three OPLs to ensure that the WGSs function as intended and emissions from the FCCU will meet the regulatory requirements for particulate matter, sulfur dioxide and opacity.

Abstract for [1100021]: C:\Documents and Settings\mmalave\Local Settings\Temp\wzc696\1100021.pdf.

Q: Does EPA approve an exemption in lieu of a previously submitted Alternative Monitoring Plan (AMP) request for combusting a vent stream from an alkylation unit in a dedicated process flare as an inherently low-sulfur stream under 40 CFR part 60 subpart Ja, at Valero Refining's Ardmore, Oklahoma refinery?

A: Yes. EPA determined that a monitoring exemption is appropriate for the Alkylation Unit vent stream, and voided the AMP request. Based upon review of the information provided, EPA agreed that the dedicated process flare is exempt from the monitoring requirements of 40 CFR 60.105a(g) because the vent stream combusted in the flare is inherently low in sulfur because it is produced in a process unit intolerant to sulfur contamination, and thus, meets the conditions and exemption criteria of sulfur content below 5 parts per million in 40 CFR 60.107a(a)(3)(iii). The effective date of the exemption is the effective date of the reissued final rule and lift of stay, November 13, 2012. EPA also clarified that the exemption determination should be referenced and attached to the facility's new source review and Title V permit for federal enforceability.

Abstract for [1100023]: C:\Documents and Settings\mmalave\Local Settings\Temp\wzc696\1100023.pdf.

Q: Does EPA approve Marathon Petroleum's (Marathon) Alternative Monitoring Plan (AMP) under 40 CFR 60.13(i)(3) for monitoring a wet gas scrubber (WGS) on a refinery Fluid Catalytic Cracking Unit (FCCU), in lieu of a Continuous Opacity Monitoring System (COMS), to demonstrate compliance with the opacity limit under 40 CFR 60.102(a)(2) at Marathon's Texas City, Texas refinery?

A: Yes. EPA granted final approval of Marathon's AMP request based on the approval of the three scrubber operating parameter limits (OPLs) established under performance testing at representative operating conditions for the FCCU and each WGS. The establishment of the OPLs and their approval by EPA were conditions in a prior approval. Previously, EPA had conditionally approved Marathon's AMP request since moisture in the FCCU exhaust from the WGS interfered with the ability of the COMS to take accurate readings due to excessive water at the point of measurement. In the response letter, EPA also clarified that compliance demonstration for each OPL was to be based on a three hour rolling average period, and required continued periodic testing to confirm OPLs for ongoing compliance demonstration.

Abstract for [1100024]: C:\Documents and Settings\mmalave\Local Settings\Temp\wzc696\1100024.pdf.

Q: Does EPA approve Motiva's Alternative Monitoring Plan (AMP) under 40 CFR 60.13(i)(3) for monitoring a hydrogen sulfide (H2S) vent stream combusted in a crude charge heater, in lieu of a Continuous Emissions Monitoring System (CEMS), to demonstrate compliance with the sulfur dioxide (H2S) monitoring requirements of 40 CFR 60.105(a)(3) and (4) under NSPS subpart J, at Motiva's Convent, Louisiana refinery?

A: No. EPA determined that Motiva's AMP request is not acceptable because it has not submitted sufficient information to justify it. EPA requires that at least two critical independent Operating Limit Parameters (OPLs) be proposed for the caustic pre-wash tower to be able to obtain EPA's approval for using a daily “doctor test” (ASTM Method D4952-09) to monitor total sulfur and sulfides in the tower outlet effluent, in lieu of installing a H2S CEMS. Therefore, the requirement to install a CEMS for monitoring H2S in the vent stream combusted in the Crude Charge Heater under 40 CFR 60.105(a)(4) shall continue to apply.

Abstract for [1100025]: C:\Documents and Settings\mmalave\Local Settings\Temp\wzc696\1100025.pdf.

Q: Does EPA approve an exemption in lieu of a previously approved Alternative Monitoring Plan (AMP) for combusting the vent stream from a catalytic Hydrodesulfurization unit (CHD No. 1) at a process heater as an inherently low-sulfur stream under 40 CFR part 60 subpart J, at the ExxonMobil's Beaumont, Texas refinery?

A: Yes. EPA approves the monitoring exemption for the catalytic hydrodesulfurization vent stream, and voided ExxonMobil's AMP request based on the process operating parameters and monitoring data submitted by the company and in light of changes made to Subpart J on June 24, 2008 (73 FR 35866). The vent stream combusted in the heater meets the conditions and exemption criteria of 40 CFR 60.105(b)(1)(i)-(v), and therefore has been demonstrated to be inherently low in sulfur since it meets the conditions and exemption criteria of sulfur content below 5 parts per million in 40 CFR 60.105(a)(4)(iv)(C). EPA agreed that the process heater is exempt from monitoring requirements of 40 CFR 60.105(a)(3) and (4). If refinery operations change from representations made for this exemption determination, then ExxonMobil must document the change(s) and follow the appropriate steps outlined in 40 CFR 60.105(b)(3)(i)-(iii).

Abstract for [1100026]: C:\Documents and Settings\mmalave\Local Settings\Temp\wzc696\1100026.pdf.

Q: Does EPA approve an exemption in lieu of an Alternative Monitoring Plan (AMP) for combusting the combined vent stream from a catalytic platinum reformer unit (PtR-4) in two heaters or a low pressure flare as an inherently low-sulfur stream under 40 CFR part 60 subpart J, at the ExxonMobil Beaumont, Texas refinery?

A: Yes. EPA determined that a monitoring exemption is appropriate for the combined vent stream, and voided the AMP request based on the process operating parameters and monitoring data submitted by the company and in light of changes made to Subpart J on June 24, 2008 (73 FR 35866). EPA agreed that the heaters and flare that burn the vent stream are exempt from monitoring requirements of 40 CFR 60.105(a)(3) and (4). The combined vent stream combusted is inherently low in sulfur because it is produced in a process unit intolerant to sulfur contamination, and thus, meets the conditions and exemption criteria of sulfur content below 5 parts per million in 40 CFR 60.105(a)(4)(iv)(C). If refinery operations change such that the sulfur content of the off-gas vent stream changes from representations made for this exemption determination, then ExxonMobil must document the change(s) and follow the appropriate steps outlined in 40 CFR 60.105(b)(3)(i)-(iii).

Abstract for [1200001]: C:\Documents and Settings\mmalave\Local Settings\Temp\wzc696\1200001.pdf.

Q: Does EPA approve an Alternative Monitoring Plan (AMP) for vent stream flow monitoring for a distillation column and associated flare to implement NSPS subpart RRR testing, monitoring, and recordkeeping provisions in lieu of complying with corresponding provisions of NSPS subpart NNN, with the exception of small vent and drain valves utilized for maintenance events, for the Advanced Aromatics facility in Baytown, Texas?

A: Yes. EPA approves Advanced Aromatics' AMP request to implement NSPS subpart RRR for testing, monitoring, and recordkeeping provisions in lieu of complying with corresponding provisions of NSPS subpart NNN for a distillation column vent stream routed to a flare without any by-pass lines. To ensure that affected vent streams are routed to appropriate control devices, Advanced Aromatics is required to maintain a schematic diagram of the affected vent streams, collection system(s), fuel systems, control devices, and bypass systems as part of the initial report submitted in accordance with 40 CFR 60.705(b). EPA noted that small vent and drain valves utilized for maintenance events are not exempt under NSPS subpart NNN or subpart RRR. Therefore, flow must be monitored during maintenance events at these locations in accordance with NSPS subpart RRR, because such components act as bypass valves during such events (i.e., flow is diverted away from the control device).

Abstract for [1200002]: C:\Documents and Settings\mmalave\Local Settings\Temp\wzc696\1200002.pdf.

Q: The Arkansas Department of Environmental Quality requests guidance from EPA on whether prescription drugs collected by the police department during community voluntary take back programs in Arkansas meet the definition of confiscated contraband under 40 CFR 60.2887(p), in order to claim an exclusion from NSPS subpart EEEE requirements for other solid waste incinerators (OSWI)?

A: No. EPA does not consider prescription drugs collected from households during a community take back program to be illegal or prohibited drugs; therefore, they are not “contraband.” As described in the preamble to the OSWI final rule (69 FR 71483), such drugs are clearly not confiscated, since they are voluntarily collected.

Abstract for [1200003]: C:\Documents and Settings\mmalave\Local Settings\Temp\wzc696\1200003.pdf.

Q: Does EPA approve exemptions in lieu of Alternative Monitoring Plans (AMP) for combusting multiple vent streams from a coker, disulfide separator, and reformer in various combustion devices as inherently low-sulfur streams under 40 CFR part 60 subpart J, at the Valero Refining Texas City, Texas refinery?

A: Yes. EPA approves a monitoring exemption for the vent streams, and voided the original AMP request based on review of the information provided by the company and in light of changes made to Subpart J on June 24, 2008 (73 FR 35866). EPA agreed that the combustion devices are exempt from monitoring requirements of 40 CFR 60.105(a)(3) and (4). The two vent streams combusted are inherently low in sulfur because they are produced in a process unit intolerant to sulfur contamination, and thus, meet the conditions and exemption criteria of sulfur content of below 5 parts per million in 40 CFR 60.105(a)(4)(iv)(C). If refinery operations cause a change in an exempt stream status, then Valero must document the change and determine if the stream remains exempt.

Abstract for [1200007]: C:\Documents and Settings\mmalave\Local Settings\Temp\wzc696\1200007.pdf.

Q: Does EPA approve an alternative monitoring plan (AMP) to use a lower alternate span value for a nitrogen oxide (NOX) continuous emissions monitoring system (CEMS) than what is required in 40 CFR 60.48b(e)(2) on a boiler required to meet more stringent NOX emission limit under Best Available Control Technology (BACT) and subject to NSPS subpart Db, at ConocoPhillips' Westlake, Louisiana facility?

A: Yes. EPA approves ConocoPhilip's AMP to lower the Boiler NOX CEMS span setting from 500 ppm to 100 ppm for the existing facility operations. The use of BACT may lower stack gas concentrations such that the span value of 500 ppm for NOX CEMS specified by 40 CFR 60.48b(e)(2) may be too high to ensure accurate and reliable reporting of compliance with a more stringent NOX emission limit. The proposed lower span setting should ensure accuracy in measuring actual NOX concentrations in the boiler stack gases so that compliance can be demonstrated with adequate confidence levels.

Abstract for [1200008]: C:\Documents and Settings\mmalave\Local Settings\Temp\wzc696\1200008.pdf.

Q: Does EPA approve ConocoPhillips' Alternative Monitoring Plan (AMP) under 40 CFR 60.13(i)(3) for monitoring a wet gas scrubber (WGS) on a refinery Fluid Catalytic Cracking Unit (FCCU), in lieu of a Continuous Opacity Monitoring System (COMS), to demonstrate compliance with the opacity limit under 40 CFR 60.102(a)(2) at ConocoPhillips' Sweeny, Texas refinery?

A: Yes. EPA granted final approval of ConocoPhillips' AMP request based on approval of the three scrubber operating parameter limits (OPLs) CHD No. 1 established under performance testing at representative operating conditions. The establishment of the three OPLs and their approval by EPA were conditions in a prior approval. Previously, EPA had conditionally approved the AMP since moisture in the FCCU exhaust from the WGS interfered with the ability of the COMS to take accurate readings, due to excessive water at the point of measurement.

Abstract for [1200010]: C:\Documents and Settings\mmalave\Local Settings\Temp\wzc696\1200010.pdf.

Q: Does EPA approve an Alternative Monitoring Plan (AMP) request and a performance test waiver for two ethylene distillation columns vent streams being introduced with the primary fuel into associated boilers and process heaters without any bypass lines, in accordance with 40 CFR 60.8(b), and as provided by 40 CFR 60.704(b)(5), to implement NSPS subpart RRR testing, monitoring, and recordkeeping provisions in lieu of complying with corresponding provisions of NSPS subpart NNN, at the Chevron Phillips facility in Port Arthur, Texas?

A: Yes. EPA approves Chevron Phillips' AMP request to implement the NSPS subpart RRR for testing, monitoring, and recordkeeping provisions, in lieu of complying with corresponding provisions of NSPS subpart NNN. To ensure that affected vent streams are routed to the appropriate control devices, Chevron Phillips facility is required to maintain a schematic diagram of the affected vent streams, collection system(s), fuel systems, and control devices as part of the initial report submitted in accordance with 40 CFR 60.705(b).

Abstract for [1200011]: C:\Documents and Settings\mmalave\Local Settings\Temp\wzc696\1200011.pdf.

Q: Does EPA approve an exemption in lieu of an Alternative Monitoring Plan (AMP) for combusting three vent streams from a catalytic hydrodesulfurization unit as inherently low-sulfur streams under 40 CFR part 60 subpart J, at the Citgo Petroleum Corpus Christi, Texas East refinery (Citgo)?

A: Yes. EPA determined that a monitoring exemption is appropriate for the specified Hydrar vent streams, and voided the original AMP request in light of the changes of the revised rule dated June 24, 2008. Based on a review of the information provided, EPA agreed that combustion devices which burn the streams are exempt from the monitoring requirements of 40 CFR 60.105(a)(3) and (4). The vent streams combusted are inherently low in sulfur because they are produced in a process unit intolerant to sulfur contamination, and thus, meet the conditions and exemption criteria of sulfur content below 5 parts per million in 40 CFR 60.105(a)(4)(iv)(C). If refinery operations cause a change in an exempt stream status, then Citgo must document the change and determine if the stream remains exempt. If it is determined that the streams are no longer exempt, continuous monitoring at each combustion device must begin within 15 days of the change, in accordance with 40 CFR 60.105(a)(4)(iv).

Abstract for [1200012]: C:\Documents and Settings\mmalave\Local Settings\Temp\wzc696\1200012.pdf.

Q: Does EPA approve an exemption in lieu of an Alternative Monitoring Plan (AMP) for combusting a vent stream from a cumene depropanizer unit as an inherently low-sulfur stream under 40 CFR part 60 subpart J, at the Citgo Petroleum Corpus Christi, Texas East refinery (Citgo)?

A: Yes. EPA determined that a monitoring exemption is appropriate for the vent stream from a cumene depropanizer unit, and voided the original Citgo's AMP in the light of the changes of the revised rule dated June 24, 2008. Based on a review of the information provided, EPA agreed that combustion devices that burn the vent stream are exempt from monitoring requirements of 40 CFR 60.105(a)(3) and (4). The vent stream combusted is inherently low in sulfur because it is produced in a process unit intolerant to sulfur contamination, and thus, meets the exemption criteria of sulfur content below 5 parts per million in 40 CFR 60.105(a)(4)(iv)(C). If refinery operations cause a change in an exempt stream status, then Citgo must document the change and determine if the stream remains exempt. If it is determined that the stream is no longer exempt, continuous monitoring at each combustion device must begin within 15 days of the change, in accordance with 40 CFR 60.105(a)(4)(iv).

Abstract for [1200013]: C:\Documents and Settings\mmalave\Local Settings\Temp\wzc696\1200013.pdf.

Q: Does EPA approve an Alternative Monitoring Plan (AMP) under 40 CFR 60.13(i)(3) for monitoring wet gas scrubbers (WGS) on a refinery Fluid Catalytic Cracking Unit (FCCU), in lieu of a Continuous Opacity Monitoring System (COMS), to demonstrate compliance with the opacity limit under 40 CFR 60.102(a)(2) at Citgo Petroleum's (Citgo) Lake Charles, Louisiana refinery?

A: EPA conditionally approves Citgo's AMP request. The AMP approval is conditioned on Citgo conducting another performance test (PT) to properly evaluate under representative operating conditions and establish the three operating parameter limits (OPLs) for each WGS to ensure these scrubbers function as intended, and that the PT results indicate that emissions from the FCCU meet the particulate matter, sulfur dioxide and opacity standards.

Abstract for [1200014]: C:\Documents and Settings\mmalave\Local Settings\Temp\wzc696\1200014.pdf.

Q: Does EPA approve an exemption in lieu of an Alternative Monitoring Plan (AMP) for combusting a vent stream from a catalytic reformer unit in a flare as an inherently low-sulfur stream under 40 CFR part 60 subpart J, at the ConocoPhillips Sweeny, Texas refinery?

A: Yes. EPA determined that a monitoring exemption is appropriate for the catalytic reformer unit vent stream, and voided the original AMP in light of the changes made in the revised rule dated June 24, 2008. Based on a review of the information provided, EPA agreed that the flare is exempt from the monitoring requirements of 40 CFR 60.105(a)(3) and (4). The vent stream combusted in the flare is inherently low in sulfur because it is produced in a process unit intolerant to sulfur contamination, and thus, meets the conditions and exemption criteria of sulfur content below 5 parts per million in 40 CFR 60.105(a)(4)(iv)(C). If other sulfur/sulfide bearing streams not from catalytic reformers enter the stripper and become part of the waste fuel gas stream, ConocoPhillips must apply for an AMP on the stripper, and propose at least three independent process parameters to ensure a low sulfur/sulfide stream going to the flare. EPA clarify that any significant increase in the sulfur/sulfide concentration detected in the stream would initiate continuous monitoring under 40 CFR 60.1 05(a)(3) or (4).

Abstract for [1200015]: C:\Documents and Settings\mmalave\Local Settings\Temp\wzc696\1200015.pdf.

Q: Does EPA approve a waiver of the requirement under NSPS subpart NNN at 40 CFR 60.663(b)(2), and to implement the alternative monitoring requirements of NSPS subpart RRR at 40 CFR 60.703(b)(2)(ii) instead, at the ConocoPhillips East Vacuum Liquid Recovery/CO2 Plant in Lea County, New Mexico?

A: Yes. EPA approves ConocoPhillips' AMP request for a waiver of the monitoring requirements under 40 CFR 60.663(b)(2) to implement the monitoring requirements of 40 CFR 60.703(b)(2)(ii) instead, which will allow for the use of car seals on closed bypass valves in lieu of flow indicators. To ensure that affected vent streams are routed to appropriate control devices, ConocoPhillips is required to maintain a schematic diagram of the affected vent streams, collection system(s), fuel systems, control devices, and bypass systems as part of the initial report submitted in accordance with 40 CFR 60.705(b).

Abstract for [1200022]: C:\Documents and Settings\mmalave\Local Settings\Temp\wzc696\1200022.pdf.

Q: Are marine vessel loading vapors that are inherently low in sulfur, collected by a Marine Vapor Recovery (MVR) system and routed to an air-assisted marine flare vapor combustor, at the ExxonMobil Beaumont, Texas refinery, subject to MACT subpart Y requirements under 40 CFR 63.562, also subject to New Source Performance Standards (NSPS) for Refineries, part 60, subpart J?

A: No. EPA determines that if the vent stream is collected to comply with the provisions for marine tank vessel loading under 40 CFR 63.562 or 40 CFR 63.651, it does not meet the definition of a fuel gas, as defined at 40 CFR 60.101(d). EPA evaluated ExxonMobil's request in light of changes made to NSPS subpart J on June 24, 2008, which modified the definition of fuel gas to specifically exclude vapors collected and combusted to comply with provisions of 40 CFR 63.562 or 40 CFR 63.651.

Abstract for [1200025]: C:\Documents and Settings\mmalave\Local Settings\Temp\wzc696\1200025.pdf.

Q: Does EPA approve an alternative monitoring plan (AMP) for an alternate lower span setting of 10 percent for the oxygen (O2) continuous emissions monitoring system (CEMS) on sulfur recovery units (SRU) subject to NSPS subpart J at the Flint Hills Resources (FHR) East and West Refineries in Corpus Christi, Texas?

A: Yes. EPA approves the AMP request for the proposed lower span setting of 10 percent for the specified CEMS since it satisfied criteria established in Performance Specification 2 of subpart 60, Appendix B. Based on the information provided in your AMP request, the lower span setting on specified CEMS should ensure accuracy in measuring actual pollutant concentrations in stack gases so that compliance can be demonstrated with adequate confidence levels.

Abstract for [1200028]: C:\Documents and Settings\mmalave\Local Settings\Temp\wzc696\1200028.pdf.

Q: Does EPA approve a petition to use Operating Parameter Limits (OPLs) to limit emissions in lieu of using a wet scrubber for a dual chamber commercial other solid waste incinerator (OSWI) unit, which destroys contraband for U.S. Customs and other law enforcement agencies, under NSPS subpart FFFF, located at Kippur Corporation's (Kippur) El Paso, Texas facility?

A: No. EPA denies Kippur's petition due to a lack of information pertaining to the recent modification made to increase the design capacity of the OWSI unit, as well as a lack of information pertaining to both the proper characterization of material fired to the OSWI Unit and the proper operation, performance testing established under representative operating conditions, and subsequent monitoring of the OSWI unit proposed OPLs to demonstrate compliance with the rule. As described in the EPA response letter, this information is needed to be able to evaluate the petition under the appropriate rule that applies to the modified OSWI unit. If a modification occurred, then according to 40 CFR 60.2992, the OSWI unit becomes subject to 40 CFR part 60 subpart EEEE and 40 CFR part 60 subpart FFFF no longer applies.

Abstract for [1200032]: C:\Documents and Settings\mmalave\Local Settings\Temp\wzc696\1200032.pdf.

Q1: The Oklahoma Department of Environmental Quality (ODEQ) requests guidance from EPA on whether engines with: (1) A maximum engine power equal to or greater than 75 KW (100 HP), except gasoline and rich burn engines that use liquid petroleum gas, which were manufactured between 06/12/2006 and 07/01/2007, and for which the owner or operator commenced construction after 06/12/2006; and (2) lean-burning maximum engine power equal to or greater than 500 HP but less than 1,350 HP, manufactured between 06/12/2006 and 01/01/2008, and for which the owner or operator commenced construction after 06/12/2006; are subject to requirements of 40 CFR part 63 subpart ZZZZ for reciprocating internal combustion engines (RICE MACT) and 40 CFR part 60 subpart JJJJ for stationary spark ignition internal combustion engines (SSIICE)?

A1: No. EPA concurs with ODEQ that the specified engines do not meet the criteria of 40 CFR 60.4230(a), and consequently have no applicable requirements under the SSIICE NSPS or the RICE MACT rules.

Q2: What are the streamlined compliance requirements for various categories of engines in relation to the SSIICE NSPS or the RICE MACT?

A2: EPA notes that if an engine specifically identified in 40 CFR 63.6590(c) is not subject to any requirements in the NSPS SSIICE, then no further action is necessary for the specified engine under the RICE MACT. However, all other engines must meet additional requirements if so delineated in the RICE MACT.

Q3: What are the key factors in determining whether an owner/operator has any additional requirements to meet under the RICE MACT when the engine is not subject to NSPS SSIICE?

A3: The key factors in determining if there are additional requirements to meet under the RICE MACT, when the engine is not subject to the SSIICE NSPS, are engine size and whether or not the engine is located at a major source or area source.

Abstract for [A130001]: C:\Documents and Settings\mmalave\Local Settings\Temp\wzc696\A130001.pdf.

Q: The Asbestos Institute request clarification from EPA on whether the use of foam meet the “adequately wet” standard, as stated in the Asbestos NESHAP, 40 CFR part 61, subpart M?

A: EPA determines that as long as the foam is applied as a liquid and sufficiently mixes with or penetrates the asbestos-containing material and prevents visible emissions, the use of such foam is acceptable in meeting the adequately wet requirement under the Asbestos NEHSAP M. The response is limited to this question regarding foam as a wetting agent. It is the responsibility of the owner or operator to meet other asbestos emission control requirements (also known as “work practice standards”) during the demolition or renovation operation, as described in the EPA response letter.

Abstract for [A130002]: C:\Documents and Settings\mmalave\Local Settings\Temp\wzc696\A130002.pdf.

Q1: Cantey Hanger LLP request a determination for a client on whether only removing a 1500 foot section of the asbestos-containing material (ACM)-wrapped pipeline in a pipeline renovation project, while leaving the remainder of the non-friable ACM-wrapped pipeline in the ground, transform the site into a waste disposal site under 40 CFR 61.154 of 40 CFR part 61, subpart M (i.e., Asbestos NESHAP)?

A1: No. The Asbestos NESHAP does not apply to undisturbed pipelines coated with ACM that remain in the ground following a renovation project, which is the described scenario in your request, as long as no asbestos-containing waste material is deposited in the recently renovated area. This is consistent with a previously EPA issued applicability determination, ADI Control Number A030001 dated March 6, 2003.

Q2: If no additional ACM is deposited at the site for a year, would the site become an inactive waste disposal site per 40 CFR 61.154(g)?

A2: Yes. If the renovated area does not receive asbestos-containing waste material, the site is not subject to the active waste disposal regulation at 40 CFR 61.154, in general and 40 CFR 61.154(g), specifically. Therefore, the inactive waste disposal requirement at 40 CFR 61.151 of the Asbestos NESHAP does not apply.

Abstract for [A130003]: C:\Documents and Settings\mmalave\Local Settings\Temp\wzc696\A130003.pdf.

Q: Does 40 CFR part 61, subpart M (i.e., Asbestos NESHAP) apply to encapsulating wall board with spray foam insulation if the surface of the wall board will not be disturbed?

A: EPA is unable to comment on whether encapsulating wall board with spray foam insulation would be compliant with the Asbestos NESHAP based on the limited on site-specific information provided in the request. However, if the work you are contemplating does not involve wrecking or taking out load-bearing structures (demolition) or altering one or more facility components, including stripping or removing regulated asbestos-containing material (renovation), then the Asbestos NESHAP for demolition and renovation operations does not apply to the proposed action.

Abstract for [M130001]: C:\Documents and Settings\mmalave\Local Settings\Temp\wzc696\M130001.pdf.

Q: Does EPA approve Valero Refinery's (Valero) Alternative Monitoring Plan (AMP) for using a video camera to monitor a flare pilot flame in a control room and record the observation, in lieu of having an ultraviolet (UV) flame detector, as required by 40 CFR part 63 subpart CC, at Valero's Three Rivers refinery in Texas?

A: No. EPA does not approve Valero's AMP since it determined that the equivalence of using a video camera that must be monitored by operations personnel in lieu of a continuous recording thermocouple or equivalent device was not demonstrated under 40 CFR 60.18(1)(2). 40 CFR 63.644(a)(2) requires that a device that continuously detects the presence of a pilot flame must be used when the controlling device is a flare. 40 CFR 63.11(b)(5) requires that the monitoring device must be a thermocouple or equivalent device. A thermocouple has a continuous recording mechanism that is not dependent on operation or monitoring by personnel.

Abstract for [M130002]: C:\Documents and Settings\mmalave\Local Settings\Temp\wzc696\M130002.pdf.

Q: Is the propane dehydrogenation (PDH) plant located at the Dow Chemical Company, Texas Operations (Dow) site subject to 40 CFR part 63 subpart YY (MON NESHAP) or subpart FFFF (GMACT and Ethylene MACT)?

A: EPA determines that Dow's process is subject to the MON NESHAP, as it did not meet the criteria of an ethylene production process as defined by the Ethylene MACT due to the natural gas liquid feed stream and process conditions including temperature.

Abstract for [Z130001]: C:\Documents and Settings\mmalave\Local Settings\Temp\wzc696\Z130001.pdf.

Q: Is the integrated biosolids management system (IBMS), which uses dried biosolids as a feedstock in the gasifier to produce syngas for heat energy to be transferred to the indirect sludge dryer, located at the MaxWest South Sanford Water Resources Center (MaxWest) in Sanford, Florida, subject to 40 CFR part 61 subpart E?

A: EPA determines that Subpart E is applicable to sludge gasifier and integrated thermal oxidizer portions and not to the sludge dryer portion of MaxWest's IBMS system. 40 CFR part 61 subpart E does not apply to MaxWest's IBMS sludge dryer portion because it does not meet the definition of “sludge” dryer in 40 CFR part 61 subpart E since it being indirectly heated by thermal transfer fluid with no contact with combustion gases. 40 CFR part 61 subpart E applies to MaxWest's combination of the gasifier and thermal oxidizer as together they comprise a sewage sludge incinerator of a two-steps process, one that produces the gases through the heating of sewage sludge, and a follow up unit in which the gases are combusted and emissions vented to the atmosphere.

Dated: October 24, 2013.
Lisa Lund,
Director, Office of Compliance.

[FR Doc. 2013-27287 Filed 11-13-13; 8:45 am]

BILLING CODE 6560-50-P